ENVIRONMENTAL PROTECTION AGENCY

[EPA-HQ-OPP-2018-0517; FRL-9985-44]

FIFRA Scientific Advisory Panel; Notice of Public Virtual Meeting; Request for Comments on Prospective Ad hoc Candidates

AGENCY: Environmental Protection Agency (EPA).

ACTION: Notice.

SUMMARY: There will be a 2-hour preparatory virtual meeting of the Federal Insecticide, Fungicide, and Rodenticide Act Scientific Advisory Panel (FIFRA SAP) on November 14, 2018, to consider and review the scope and clarity of the draft charge questions for the December 4-7, 2018 FIFRA SAP Meeting on the Evaluation of a Proposed Approach to Refine Inhalation Risk Assessment for Point of Contact Toxicity: A Case Study Using a New Approach Methodology (NAM). In addition, EPA is announcing and inviting comments on the experts currently under consideration as ad hoc participants in this review.

DATES: The preparatory virtual meeting will be held on November 14, 2018, from approximately 2 p.m. to 4 p.m. (EST). This is an open public meeting that will be conducted via webcast using Adobe Connect and telephone. Registration is required to participate during this meeting. Please visit: http://www.epa.gov/sap to register.

Comments. Requests to make oral comments during the preparatory virtual meeting should be submitted on or before November 9, 2018 by contacting the Designated Federal Official (DFO) listed under FOR FURTHER INFORMATION CONTACT. Written comments on the experts currently under consideration as ad hoc participants in this review should be submitted to the public docket (docket identification (ID) number EPA-HQ-OPP-2018-0517) on or before November 9, 2018. For additional instructions, see Unit I.C. of this document.

Webcast. The preparatory virtual meeting will be conducted by webcast and telephone only. Please refer to the FIFRA SAP website at http://www.epa.gov/sap for information on how to register and access the webcast.

Special accommodations. For information on access or services for individuals with disabilities, and to request accommodation of a disability, please contact the DFO listed under FOR FURTHER INFORMATION CONTACT at least 10 days prior to the meeting to allow EPA time to process your request.

Comments. Submit your comments, identified by docket identification (ID) number EPA-HQ-OPP-2018-0517, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Dr. Shaunta Hill-Hammond, Designated Federal Official, Office of Science Coordination and Policy (7201M), Environmental Protection Agency, 1200 Pennsylvania Ave. NW, Washington, DC 20460-0001; telephone number: (202) 564-3343; email address: hill-hammond.shaunta@epa.gov.

SUPPLEMENTARY INFORMATION:

I. General Information

A. Does this action apply to me?

This action is directed to the public in general. This action may be of interest to persons who are or may be required to conduct testing of chemical substances under the Federal Food, Drug, and Cosmetic Act (FFDCA) and FIFRA. Since other entities may also be interested, the Agency has not attempted to describe all the specific entities that may be affected by this action.

B. What should I consider as I prepare my comments for EPA?

1. Submitting CBI. Do not submit CBI information to EPA through regulations.gov or email. If your comments contain any information that you consider to be CBI or otherwise protected, please contact the DFO listed under FOR FURTHER INFORMATION CONTACT to obtain special instructions before submitting your comments.

2. Tips for preparing your comments. When preparing and submitting your comments, see the commenting tips at http://www.epa.gov/dockets/comments.html.

C. How may I participate in this meeting?

You may participate in this meeting by following the instructions in this unit. To ensure proper receipt by EPA, it is imperative that you identify docket ID number EPA-HQ-OPP-2018-0517 in the subject line on the first page of your request.

1. Written comments. Written comments on the experts currently under consideration as ad hoc participants in this review should be submitted, using the instructions in FOR FURTHER INFORMATION CONTACT, on or before November 9, 2018

2. Oral comments. Registration is required to participate in the preparatory virtual meeting. Please visit: http://www.epa.gov.sap to register. Each individual or group wishing to make brief oral comments to FIFRA SAP during the virtual meeting should submit their request by registering with the DFO listed under FOR FURTHER INFORMATION CONTACT on or before noon November 9, 2018. Oral comments before FIFRA SAP are limited to approximately 5 minutes due to the time constraints of this virtual meeting.

II. Background

A. Purpose of FIFRA SAP Preparatory Virtual Meeting

During the preparatory virtual meeting scheduled for November 14, 2018, the FIFRA SAP will review and consider the draft Charge Questions for the Panel's December 4-7, 2018 Meeting on Evaluation of a Proposed Approach to Refine Inhalation Risk Assessment for Point of Contact Toxicity: A Case Study Using a NAM. The SAP will receive a short background briefing including the EPA's history and current position on the methodology being considered. In addition, the panel members will have the opportunity to comment on the scope and clarity of the draft charge questions. Subsequent to this virtual meeting, final charge questions will be provided for the FIFRA SAP's deliberation on the methodology and supplemental information during the in-person meeting to be held December 4-7, 2018.

B. FIFRA SAP Background

FIFRA SAP serves as a primary scientific peer review mechanism of EPA's Office of Chemical Safety and Pollution Prevention (OCSPP) and is structured to provide scientific advice, information and recommendations to the EPA Administrator on pesticides and pesticide-related issues as to the impact of regulatory actions on health and the environment. FIFRA SAP is a Federal advisory committee established in 1975 under FIFRA that operates in accordance with requirements of the Federal Advisory Committee Act (5 U.S.C. Appendix). FIFRA SAP is composed of a permanent panel consisting of seven members who are appointed by the EPA Administrator from nominees provided by the National Institutes of Health and the National Science Foundation. The FIFRA SAP is assisted in their reviews by ad hoc participation from the Science Review Board (SRB). As a scientific peer review mechanism, FIFRA SAP provides comments, evaluations, and recommendations to improve the effectiveness and quality of analyses made by Agency scientists. The FIFRA SAP is not required to reach consensus in its recommendations to the Agency.

C. FIFRA SAP Documents and Meeting Minutes

EPA's background paper, charge/questions to FIFRA SAP, and related supporting materials were made available on September 7, 2018. You may obtain electronic copies of most meeting documents, including the list of experts currently under consideration as ad hoc participants in this review, at http://www.regulations.gov and the FIFRA SAP website at http://www.epa.gov/sap.

Authority: 7 U.S.C. 136 et. seq.; 21 U.S.C. 301 et seq.

Dated: October 17, 2018.
Stanley Barone, Jr.,
Acting Director, Office of Science Coordination and Policy.

[FR Doc. 2018-24035 Filed 11-1-18; 8:45 am]

BILLING CODE 6560-50-P